DEPARTMENT OF HEALTH AND HUMAN SERVICES

National Institutes of Health

Center for Scientific Review; Amended Notice of Meeting

Notice is hereby given of a change in the meeting of the Center for Scientific Review Special Emphasis Panel, December 18, 2003, 1 p.m. to December 18, 2003, 3 p.m., National Institutes of Health, 6701 Rockledge Drive, Bethesda, MD 20892 which was published in the Federal Register on November 26, 2003, 68 FR 66471-66472.

The meeting will be held on December 19, 2003, from 5 p.m. to 7 p.m. The location remains the same. The meeting is closed to the public.

Dated: November 28, 2003.
Anna Snouffer,
Acting Director, Office of Federal Advisory Committee Policy.

[FR Doc. 03-30201 Filed 12-4-03; 8:45 am]

BILLING CODE 4140-01-M